Proclamation 9356 of October 28, 2015

National College Application Month, 2015

By the President of the United States of America

A Proclamation

Our Nation was built on the idea that no matter where you come from or what you look like, you can make it if you try. Expanding access to affordable higher education is key to safeguarding this ideal. A college degree is the surest ticket to the middle class, and broadening paths to education so more people have the chance to earn post-secondary degrees and credentials is the best way to make sure all our people can contribute to writing our country's next great chapters. During National College Application Month, we pledge our support for those across America who are taking steps toward earning a degree, and we continue our work to ensure all Americans can access the tools and resources necessary to make informed decisions about college.

My Administration has made it a priority to equip aspiring college students and their families with data on college costs, value, and admissions so they can make choices that are right for their futures and their budgets. Earlier this year, we redesigned the Department of Education's College Scorecard, which can be found at CollegeScorecard.ed.gov, with input from those who use it most—students, families, and advisers. It can now be used to compare schools' affordability, graduation rates, post-college salaries, and employment outcomes for former students. We also launched the Better Make Room campaign, which supports First Lady Michelle Obama's Reach Higher initiative and gives students a platform to share their goals, progress, and stories to lift each other up and inspire one another to continue pursuing an education. And across our country, organizations are partnering with government to ensure first-generation college students and students in low-income communities have the resources and support to go to school and tap into their incredible potential.

Our effort to expand access to higher education includes making community college more affordable. Community colleges are essential pathways to the middle class for millions of people: They work for veterans transitioning back into civilian life, families who need flexible schedules due to work or childcare, and people who are seeking to hone new skills and are not able to go back to school for 4 years. That is why I announced a plan earlier this year to make 2 years of community college free for anyone willing to work for it—because in the United States of America, a quality education should not be a privilege that is reserved for a few, but a right for everybody who strives for it.

Getting a higher education has never been more important, but it has also never been more expensive, and my Administration has been working to streamline the process for obtaining Federal financial aid. Next year, students and families will be able to apply for aid earlier, beginning on October 1, and use tax data from their most recent return rather than waiting to finalize applications until the following year's tax season. Additionally, we have made it easier to complete the FAFSA—the standard form used when applying for aid from the Federal Government—and we have created a new tax credit of up to $2,500 for working families to pay for things like textbooks and tuition. To make loans more manageable for students and families, we increased Pell Grant funding, capped loan repayments at 10 percent of a borrower's income, and enacted a commonsense plan to keep interest rates on student loans at reasonable levels. All together, these actions could help hundreds of thousands of students pay for college. For resources and more information about the steps we are taking to expand access to the opportunities a higher education provides, visit www.WhiteHouse.gov/ReachHigher.

At such a critical time in people's lives, we owe it to them to make sure they have the necessary resources and information to confidently make the important decisions that come with applying to college. This month, let us strive to expand access to quality higher education for all people and to make real our Nation's promise of opportunity. Together, we can once again secure our status as the country with the highest proportion of college graduates in the world, and we can forge a future where dreams know no bounds.

NOW, THEREFORE, I, BARACK OBAMA, President of the United States of America, by virtue of the authority vested in me by the Constitution and the laws of the United States, do hereby proclaim November 2015 as National College Application Month. I call upon public officials, educators, parents, students, and all Americans to observe this month with appropriate ceremonies, activities, and programs designed to encourage students to make plans for and apply to college.

IN WITNESS WHEREOF, I have hereunto set my hand this twenty-eighth day of October, in the year of our Lord two thousand fifteen, and of the Independence of the United States of America the two hundred and fortieth.

[FR Doc. 2015-28037

Filed 10-30-15; 11:15 am]

Billing code 3295-F6-P